DEPARTMENT OF COMMERCE

International Trade Administration

[A-428-602]

Brass Sheet and Strip From Germany: Extension of Time Limits for Preliminary and Final Results of Full Third Five-Year (“Sunset”) Antidumping Duty Review

AGENCY: Import Administration, International Trade Administration, Department of Commerce

DATES: Effective Date: June 23, 2011.

FOR FURTHER INFORMATION CONTACT: Mahnaz Khan or Yasmin Nair, AD/CVD Operations, Office 1, Import Administration, International Trade Administration, U.S. Department of Commerce, 14th Street and Constitution Avenue, NW., Washington, DC 20230; telephone (202) 482-0914 and (202) 482-3813, respectively.

Background

On March 1, 2011, the Department initiated the third five-year (“sunset”) antidumping duty review of this order, pursuant to section 751(c) of the Tariff Act of 1930, as amended (“the Act”). See Initiation of Five-Year (“Sunset”) Review, 76 FR 11202 (March 1, 2011). The Department received a notice of intent to participate from domestic interested parties, GBC Metals, LLC of Global Brass and Copper, Inc., doing business as Olin Brass; Heyco Metals, Inc.; Luvata North America, Inc. (previously Outokumpu American Brass); PMX Industries, Inc.; Revere Copper Products, Inc.; International Association of Machinists and Aerospace Workers; United Auto Workers (Local 2367 and Local 1024); and United Steelworkers AFL-CIO CLC (collectively, “Petitioners”), within the deadline specified in 19 CFR 351.218(d)(1)(i). Petitioners claimed interested party status under sections 771(9)(C) as a manufacturer, producer, or wholesaler in the United States of a domestic like product, or under 771(9)(D) of the Act as a certified union or recognized union or group of workers representative of an industry engaged in the manufacture, production, or wholesale in the United States of a domestic like product.

The Department received timely substantive responses from Petitioners and the following respondent interested parties: Wieland-Werke AG, Schwermetall Halbzeugwerk GmbH & Co., KG, and Messingwerk Plettenberg Herfeld & Co., KG (collectively, “Respondents”). Petitioners and Respondents also submitted to the Department timely rebuttal comments. On June 7, 2011, the Department determined to conduct a full sunset review of the antidumping duty order on brass sheet and strip from Germany. See Memorandum to Edward C. Yang, Acting Deputy Assistant Secretary for Antidumping and Countervailing Duty Operations, from Susan Kuhbach, Director, Antidumping and Countervailing Duty Operations, Office 1, regarding “Adequacy Determination: Third Five-Year (“Sunset”) Review of the Antidumping Duty Order on Brass Sheet and Strip from Germany” (June 7, 2011).

Extension of Time Limits

In accordance with section 751(c)(5)(B) of the Act, the Department may extend the period of time for making its determination by not more than 90 days, if it determines that the review is extraordinarily complicated. Petitioners and Respondents have argued that the Department should consider recalculating the “Margins Likely to Prevail,” and these arguments present complex issues for which the Department needs additional time, pursuant to section 751(c)(5)(C) of the Act.

The deadline for the preliminary results of the full sunset review of the antidumping dumping duty order on brass sheet and strip from Germany is June 19, 2011, and the deadline for the final results of this review is October 27, 2011. The Department is hereby extending the deadlines for both the preliminary and final results of the full sunset review. As a result, the Department intends to issue the preliminary results of the full sunset review of the antidumping duty order on brass sheet and strip from Germany on September 17, 2011,¹ and the final results of the review on January 25, 2012. These dates are 90 days from the original scheduled dates of the preliminary and final results of these full sunset reviews.

¹ September 17, 2011 falls on a Saturday, and it is the Department's practice to issue a determination the next business day when the statutory deadline falls on a weekend, federal holiday, or any other day when the Department is closed. See Notice of Clarification: Application of “Next Business Day” Rule for Administrative Determination Deadlines Pursuant to the Tariff Act of 1930, as Amended, 70 FR 24533 (May 10, 2005). Accordingly, the deadline for completion of the preliminary results is September 19, 2011.

This notice is issued in accordance with sections 751(c)(5)(B) and (C)(ii) of the Act.

Dated: June 16, 2011.
Gary Taverman,
Acting Deputy Assistant Secretary for Antidumping and Countervailing Duty Operations.

[FR Doc. 2011-15724 Filed 6-22-11; 8:45 am]

BILLING CODE 3510-DS-P